DEPARTMENT OF HEALTH AND HUMAN SERVICES

Administration for Children and Families

Office of Administration; Single-Source Cooperative Agreement Award; Announcing the Award a Single-Source Cooperative Agreement to the Johns Hopkins University, Applied Physics Lab (APL) and School of Public Health, To Support the Development of a Human Services National Interoperable Architecture

AGENCY: Office of Information Services, OA, ACF, HHS.

ACTION: Notice.

CFDA Number: 93.647.

Legislative Authority: This award will be made pursuant to the Patient Protection and Affordable Care Act (ACA) [Pub. L. 111-148] and the Improper Payments Elimination and Recovery Act of 2010 [Pub. L. 111-204].

Amount of Award: $1,500,000.

Project Period: September 17, 2010 through September 16, 2011.

SUMMARY: The Administration for Children and Families (ACF), Office of Administration (OA), Office of Information Services (OIS) announces the award of a single-source cooperative agreement to the Johns Hopkins University (JHU), Applied Physics Lab (APL) and School of Public Health, in Baltimore, MD, to support the development of a Human Services National Interoperable Architecture. Under the award, APL will develop an architectural framework that will be used as a model to facilitate State and local agencies in information exchanges among eligibility and verification services that are developed by the HHS/Centers for Medicare and Medicaid Services (CMS) under the requirements of the Patient Protection and Affordable Care Act (ACA).

To address issues related to implementation of the ACA and the Improper Payments and Recovery Act of 2010, the Administration has directed Agencies to begin to design and execute plans related to the legislation. Under ACA, CMS has been directed to create a technical solution that enables health-related eligibility and enrollment functions and to ensure that the human services agencies can use the solutions for human services eligibility and verification determination. Under the Improper Payments and Recovery Act of 2010, Agencies must design and begin the execution of plans to eliminate improper payments and fraud.

JHU will create the development of a conceptual information technology architecture with ACF/Office of Information Services. The project will produce a solution that supports information exchanges and interoperability that will lead to reductions in improper payments as a preventative step in the program integrity process.

FOR FURTHER INFORMATION CONTACT: David Jenkins, Federal Project Officer, Office of Administration, Office of Information Services, Administration for Children and Families, 901 D Street, SW., 3rd Floor West, Washington, DC 20047; E-mail: David.Jenkins@acf.hhs.gov; Telephone: (202) 690-5802.

Dated: October 1, 2010.
Michael Curtis,
Director, Office of Information Services.

[FR Doc. 2010-25429 Filed 10-7-10; 8:45 am]

BILLING CODE P